DEPARTMENT OF COMMERCE

National Oceanic and Atmospheric Administration

[I.D. 042406F]

Magnuson-Stevens Act Provisions; Fisheries of the Northeastern United States; Northeast Multispecies Fishery; Fishing Year 2006 Georges Bank Cod Hook Sector Operations Plan and Agreement and Allocation of Georges Bank Cod Total Allowable Catch

AGENCY: National Marine Fisheries Service (NMFS), National Oceanic and Atmospheric Administration (NOAA), Commerce.

ACTION: Notice.

SUMMARY: NMFS announces partial approval of an Operations Plan and Sector Contract titled "Amendment 2 to Georges Bank Cod Hook Sector (Sector) Operations Plan and Agreement" (together referred to as the Sector Agreement), and the associated allocation of GB cod, consistent with regulations implementing Amendment 13, as modified by Framework Adjustment 40-B to the Northeast (NE) Multispecies Fishery Management Plan (FMP) for fishing year (FY) 2006. The intent is to allow regulated harvest of groundfish by the GB Cod Hook Sector (Sector), consistent with the objectives of the FMP.

DATES: The Sector Operations Plan was approved on April 25, 2006.

ADDRESSES: Copies of the Sector Operations Plan and the Supplemental Environmental Assessment (EA) are available upon request from the NE Regional Office at the following mailing address: George H. Darcy, Assistant Regional Administrator for Sustainable Fisheries, NMFS, Northeast Regional Office, 1 Blackburn Drive, Gloucester, MA 01930. These documents may also be requested by calling (978) 281-9135.

FOR FURTHER INFORMATION CONTACT: Thomas Warren, Fishery Policy Analyst, phone (978) 281-9347, fax (978) 281-9135, e-mail Thomas.Warren@NOAA.gov.

SUPPLEMENTARY INFORMATION: The final rule implementing Amendment 13 to the FMP (69 FR 22906, April 27, 2004) specified a process for the formation of sectors within the NE multispecies fishery and the allocation of TAC for a specific groundfish species, implemented restrictions that apply to all sectors, authorized the Sector, established the GB Cod Hook Sector Area (Sector Area), and specified a formula for the allocation of GB cod TAC to the Sector. Framework Adjustment 40-B (70 FR 31323, June 1, 2005) modified that process by allowing any vessel, regardless of gear used in previous fishing years, to join the Sector. All landings of GB cod by Sector participants, regardless of gear previously used, are used to determine the Sector's GB cod allocation for a particular fishing year. The Sector was authorized for FY 2005 and, based upon the GB cod landings history of its 49 members, was allocated 455 mt of cod, which was 11.12 percent of the total FY 2005 GB cod TAC.

In accordance with the regulations that specify the process of Sector approval, on January 23, 2006, the Sector submitted to NMFS an Operations Plan, Sector Agreement, and a Supplemental EA that analyzes the impacts of the proposed Operations Plan. Subsequent to their initial submission, the Sector revised the documents and submitted a final version on March 8, 2006. According to these documents, the Sector will be overseen by a Board of Directors and a Sector Manager. Consistent with Amendment 13, the cod TAC for the Sector is based upon the number of Sector participants and their historic landings of GB cod. In addition, participating vessels will be required to fish under their Amendment 13 DAS allocations to account for any incidental groundfish species that they may catch while fishing for GB cod. Once the GB cod TAC is reached, participating vessels will not be allowed to fish under a day-at-sea (DAS)(category A or B DAS), possess or land GB cod or other regulated species managed under the FMP, or use gear capable of catching groundfish (unless fishing under recreational or charter/party regulations) for the remainder of the fishing year.

With three substantive exceptions, the proposed FY 2006 Sector Operations Plan contained the same elements as the FY 2005 Sector Operations Plan. These exceptions are proposed exemptions from the differential DAS counting requirements, from the DAS Leasing Program vessel size restrictions, and the 72-hr observer notification requirement. Rationale by the Sector for these proposed exemptions can be found in the Federal Register notice soliciting public comment on the FY 2006 GB Cod Hook Sector Operations Plan and Agreement (71 FR 16122, March 30, 2006). NMFS has approved the continuation of all provisions from the FY 2005 Sector Operations Plan for FY 2006 and, in addition, has approved the exemption from the 72-hr observer notification requirement.

NMFS has not approved the proposed exemption from the differential DAS requirements implemented in the Secretarial emergency action and proposed in Framework Adjustment 42, nor the proposed exemption from the DAS Leasing Program size restrictions. The reasons for this decision can be found below in this notice.

Comments and Responses:

NMFS provided interested parties an opportunity to comment on the Sector Agreement proposed for FY 2006 through notification published in the Federal Register on March 30, 2006 (71 FR 16122). Seven comments were received, two from groups representing the fishing industry, one from the New England Fishery Management Council (Council), one from the Maine Department of Marine Resources (MEDMR), two from industry members not associated with the Sector and one from a Sector member.

Based on comments received during the public comment period, NMFS has determined that the exemptions from differential DAS counting and the DAS Leasing Program vessel size restrictions should not be approved at this time, but rather should be deferred to the Council for full discussion. Both of these exemptions would modify effort-based management measures. Given the substantial effort reductions that are necessary in the NE multispecies fishery and the fact that the Sector relies on DAS as a primary effort reduction tool for all stocks except GB cod, NMFS has determined that it is important that the Council discuss in public these proposed exemptions.

After consideration of the proposed Sector Agreement, which contains the Sector Contract and Operations Plan, NMFS has concluded that the Sector Agreement, excluding the proposed exemptions from differential DAS counting and DAS Leasing Program vessel size restrictions, is consistent with the goals of the FMP and other applicable law and is in compliance with the regulations governing the development and operation of a sector as specified under 50 CFR 648.87. Accordingly, NMFS is granting the Sector an exemption from the 72-hr observer notification requirement when fishing under an A DAS in the Western U.S./Canada Area and approving the continuation of all provisions from the FY 2005 Sector Operations Plan for FY 2006. NMFS may reconsider approval of both the exemption from the differential DAS requirements (effective May 1, 2006, and proposed in FW 42) and an exemption from the DAS Leasing Program vessel size restrictions if the full Council concludes that the merits of such exemptions justify them, given the potential importance of such measures to effort control.

There are 37 members of the approved Sector. The GB cod TAC calculation is based upon the historic cod landings of the participating Sector vessels, using all gear. The allocation percentage is calculated by dividing the sum of total landings of GB cod by Sector members for the FY 1996 through 2001, by the sum of the total accumulated landings of GB cod harvested by all NE multispecies vessels for the same time period (113,278,842 lb (51,383.9 mt)). The resulting number is 10.03 percent (of the overall GB cod TAC). Based upon these 37 prospective Sector members, the Sector TAC of GB cod is 615 mt (10.03 percent times the fishery-wide GB cod target TAC of 6,132 mt). The fishery-wide GB cod target TAC of 6,132 mt is less than the GB cod target TAC proposed for FY 2006 (7,458 mt; 71 FR 12665; March 13, 2006) because the 7,458 mt included Canadian catch. That is, the fishery-wide GB cod target TAC of 6,132 mt was calculated by subtracting the GB cod TAC specified for Canada under the U.S./Canada Resource Sharing Understanding for FY 2006 (1,326 mt) from the overall GB cod target TAC of 7,458 mt proposed by the Council for FY 2006.

Letters of Authorization will be issued to members of the Sector exempting them, conditional upon their compliance with the Sector Agreement, from the requirements of the GOM cod trip limit exemption program, limits on the number of hooks, the GB Seasonal Closure Area, and the 72-hour observer notification requirement for trips to the U.S./Canada Management Area, as specified in §§ 648.86(b), 648.80(a)(4)(v), 648.81(g), and 648.85(a)(3)(viii), respectively.

Authority: 16 U.S.C. 1801 et seq.

Dated: April 26, 2006.
James P. Burgess,
Acting Deputy Director, Office of Sustainable Fisheries, National Marine Fisheries Service.

[FR Doc. 06-4081 Filed 4-26-06; 3:44 pm]

BILLING CODE 3510-22-S